DEPARTMENT OF THE INTERIOR

National Park Service

Ulysses S. Grant National Historic Site

AGENCY: National Park Service, Interior.

ACTION: Notice of Intent to prepare a general management plan amendment and environmental assessment for Ulysses S. Grant National Historic Site, St. Louis County, Missouri.

SUMMARY: The National Park Service (NPS) will prepare a general management plan amendment and an associated environmental assessment (EA) for Ulysses S. Grant National Historic Site, Missouri, in accordance with section 102(2)(C) of the National Environmental Policy Act of 1969 (NEPA).

To facilitate sound planning and environmental assessment, the NPS intends to gather information necessary for the preparation of the EA, and to obtain suggestions and information from other agencies and the public on the scope of issues to be addressed in the EA. Comments and participation in this scoping process are invited.

ADDRESSES: Written comments and information concerning the scope of the EA and other matters, or requests to be added to the project mailing list should be directed to: Mr. Randy Wester, Site Manager, Ulysses S. Grant National Historic Site, 7400 Grant Road, St. Louis, MO 63123. Telephone: 314-842-1867, extension 23. E-mail: randy_wester@nps.gov.

DATES: Comments regarding the scope of the EA should reach the National Park Service by August 15, 2000.

FOR FURTHER INFORMATION CONTACT: Site Manager, Ulysses S. Grant National Historic Site, at the address and telephone number above.

SUPPLEMENTARY INFORMATION: Management of Ulysses S. Grant National Historic Site is guided by a general management plan (GMP) that was approved in 1995. The approved GMP includes direction for development of various visitor facilities. In the past five years it has become apparent that some of the plan's guidance regarding development of visitor facilities is no longer practicable. The GMP Amendment/EA will consider new alternatives for: (1) Relocation of the primary entrance to the site, (2) provision for onsite visitor parking, and (3) relocation of the site's barn to with associated development of administrative offices and an interpretive center. Other provisions of the 1995 GMP will not be considered in this amendment and will continue to be in force.

The environmental review of the GMP Amendment/EA for the historic site will be conducted in accordance with requirements of the NEPA (42 U.S.C. 4371 et seq.), NEPA regulations (40 CFR 1500-1508), other appropriate Federal regulations, and National Park Service procedures and policies for compliance with those regulations.

The National Park Service anticipates a draft GMP Amendment/EA will be available for public review in October of 2000. A public open house will be scheduled to explain the project and to receive comment after the draft is released for review.

Dated: June 29, 2000.
Alan M. Hutchings,
Acting Regional Director.

[FR Doc. 00-17427 Filed 7-10-00; 8:45 am]

BILLING CODE 4310-70-P